DEPARTMENT OF ENERGY

Federal Energy Regulatory Commission

[Project No. 14514-003]

Community of Elfin Cove Non-Profit Corporation, DBA Elfin Cove Utility Commission; Notice of Intent To Prepare an Environmental Assessment

On August 24, 2020, the Community of Elfin Cove Non-Profit Corporation DBA Elfin Cove Utility Commission (Elfin Cove) filed an application for an original minor license to construct and operate the 105-kilowatt Crooked Creek and Jim's Lake Hydroelectric Project No. 14514 (project). The proposed project would be located on Crooked Creek and Jim's Lake near the community of Elfin Cove, in the Sitka Recording District, Unorganized Borough, Alaska. The project would occupy 10.5 acres of federal land in the Tongass National Forest, managed by the U.S. Department of Agriculture's Forest Service.

In accordance with the Commission's regulations, on June 27, 2022, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to license the Crooked Creek and Jim's Lake Project.

The EA will be issued and circulated for review by all interested parties. All comments filed on the EA will be analyzed by staff and considered in the Commission's final licensing decision.

The application will be processed according to the following schedule. Revisions to the schedule may be made as appropriate.

¹ The Council on Environmental Quality's (CEQ) regulations under 40 CFR 1501.10(b)(1) require that EAs be completed within 1 year of the federal action agency's decision to prepare an EA. This notice establishes the Commission's intent to prepare an EA for the Crooked Creek and Jim's Lake Project. Therefore, in accordance with CEQ's regulations, the final EA must be issued within 1 year of the issuance date of this notice.

Milestone | Target date
Commission issues EA | March 2023.¹
Comments on EA | April 2023.

Any questions regarding this notice may be directed to John Matkowski at (202) 502-8576 or john.matkowski@ferc.gov.

Dated: September 28, 2022.
Kimberly D. Bose,
Secretary.

[FR Doc. 2022-21478 Filed 10-3-22; 8:45 am]

BILLING CODE 6717-01-P